DEPARTMENT OF COMMERCE

Foreign-Trade Zones Board

[S-140-2020]

Foreign-Trade Zone 29—Louisville, Kentucky; Application for Subzone Expansion; Hyster-Yale Group, Inc.; Berea, Kentucky

An application has been submitted to the Foreign-Trade Zones (FTZ) Board by the Louisville & Jefferson County Riverport Authority, grantee of FTZ 29, requesting an expansion of Subzone 29I on behalf of Hyster-Yale Group, Inc., in Berea, Kentucky. The application was submitted pursuant to the provisions of the Foreign-Trade Zones Act, as amended (19 U.S.C. 81a-81u), and the regulations of the FTZ Board (15 CFR part 400). It was formally docketed on August 12, 2020.

Subzone 29I currently consists of the following sites: Site 1 (52 acres) 2200 Menelaus Road, Berea; and, Site 3 (13.77 acres) 353 Walnut Meadow Road, Berea. The proposed expansion would add 3.57 acres to existing Site 1. No authorization for expanded production activity has been requested at this time. The subzone will be subject to the existing activation limit of FTZ 29.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is September 28, 2020. Rebuttal comments in response to material submitted during the foregoing period may be submitted during the subsequent 15-day period to October 13, 2020.

A copy of the application will be available for public inspection in the “Reading Room” section of the FTZ Board's website, which is accessible via www.trade.gov/ftz.

For further information, contact Elizabeth Whiteman at Elizabeth.Whiteman@trade.gov or (202) 482-0473.

Dated: August 13, 2020.
Andrew McGilvray,
Executive Secretary.

[FR Doc. 2020-17984 Filed 8-17-20; 8:45 am]

BILLING CODE 3510-DS-P